DEPARTMENT OF THE INTERIOR

Bureau of Land Management

[LLWO220000.L63100000.PH0000 0113X]

Renewal of Approved Information Collection

AGENCY: Bureau of Land Management, Interior.

ACTION: 30-day notice and request for comments.

SUMMARY: The Bureau of Land Management (BLM) has submitted an information collection request to the Office of Management and Budget (OMB) to: (1) Continue the collection of information from individuals and entities seeking authorization for free use of mineral or vegetative materials; and (2) use one form for vegetative materials, and a different form for mineral materials. The Office of Management and Budget (OMB) previously approved this information collection activity, and assigned it control number 1004-0001.

DATES: The OMB is required to respond to this information collection request within 60 days but may respond after 30 days. For maximum consideration, written comments should be received on or before July 25, 2013.

ADDRESSES: Please submit comments directly to the Desk Officer for the Department of the Interior (OMB #1004-0001), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0001” regardless of the form of your comments.

FOR FURTHER INFORMATION CONTACT: Mike Bechdolt, at 202-912-7234 (vegetative material); or George Brown, at 202-912-7118 (mineral material), respectively. Persons who use a telecommunication device for the deaf may call the Federal Information Relay Service at 1-800-877-8339, to leave a message for Mr. Bechdolt or Mr. Brown. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on January 31, 2013 (78 FR 6830), and the comment period ended April 1, 2013. The BLM received no comments.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0001 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Free Use Application and Permit for Vegetative or Mineral Materials (43 CFR Parts 3600, 3620, and 5510).

OMB Control Number: 1004-0001.

Summary: The Bureau of Land Management (BLM) collects information from respondents for free use permits for vegetative or mineral materials in order to: (1) Determine whether the applicant is eligible for free use; (2) determine whether the vegetative or mineral materials at issue qualify for free use; (3) determine whether free use is consistent with pertinent land use plans and authorities; and (4) monitor the authorized removal and uses of vegetative and mineral materials to ensure sustainable resource management and verify that the actual use is consistent with the authorization. At present, the BLM uses the same form for free use of both vegetative and mineral materials. In this request, the BLM seeks approval to use one form for vegetative materials, and a different form for mineral materials.

Frequency of Collection: On occasion.

Proposed Forms:

• Form 3604-1, Free Use Application and Permit For Mineral Material; and

• Form 5510-1, Free Use Application and Permit for Vegetative Material.

Description of Respondents: Individuals and entities seeking authorization for free use of mineral or vegetative materials.

Estimated Annual Responses: 410 responses and 246 burden hours.

Estimated Annual Non-Hour Costs: None.

The estimated annual burdens of this collection are itemized below:

A. | B. | C. | D.
Type of response | Number of responses | Time per response (minutes) | Total hours (column B × column C)
Form 5510-1 Free Use Application and Permit for Vegetative Material (Federal, State, or Local Governments) | 83 | 30 | 42
Form 5510-1 Free Use Application and Permit for Vegetative Material (Nonprofit Organizations) | 83 | 30 | 42
Form 5510-1 Free Use Application and Permit for Vegetative Material (Mining Claimants) | 84 | 30 | 42
Form 3604-1 Free Use Application and Permit for Mineral Material (Federal, State, or Local Governments) | 80 | 45 | 60
Form 3604-1 Free Use Application and Permit for Mineral Material (Nonprofit Organizations) | 80 | 45 | 60
Totals | 410 |  | 246

Jean Sonneman,
Bureau of Land Management, Information Collection Clearance Officer.

[FR Doc. 2013-15171 Filed 6-24-13; 8:45 am]

BILLING CODE 4310-84-P